DEPARTMENT OF HEALTH AND HUMAN SERVICES

National Institutes of Health

National Center for Complementary and Alternative Medicine Announcement of Strategic Planning Stakeholder Forums

ACTION: Notice.

SUMMARY: The National Center for Complementary and Alternative Medicine (NCCAM) is developing its 5-year strategic plan (2005-2009), and invites the public to provide input regarding NCCAM research, training, outreach, and integration. Two strategic planning stakeholder forums will be held (March 22, 2004 in Bethesda, Maryland and April 19, 2004 in Seattle, Washington). In addition, the public is invited to provide comments via the NCCAM Web site.

Background

The National Center for Complementary and Alternative Medicine (NCCAM) was established in 1999 with the mission of exploring complementary and alternative healing practices in the context of rigorous science, training CAM researchers, and disseminating authoritative information to the public and professionals.

To date, NCCAM's efforts to rigorously study CAM, to train CAM researchers, to conduct outreach, and to facilitate integration have been guided by NCCAM's current strategic plan, “Expanding Horizons of Healthcare: Five Year Strategic Plan 2001-2005” located on the NCCAM Web site at http://nccam.nih.gov/about/plans/fiveyear/index.htm. Since its inception, NCCAM has funded over 300 projects and has over 700 grantee publications.

NCCAM's new strategic plan will also stipulate strategic goals, and will outline a research agenda that prioritizes among and between CAM domains, scientific area, and health conditions, based on identified needs and opportunities.

Request for Comments

The public is invited to provide input into the development of NCCAM's strategic plan for 2005-2009.

NCCAM will host two Strategic Planning Stakeholder Forums. These events will give NCCAM stakeholders an opportunity to voice their opinions regarding future directions for research, training, outreach, and integration in complementary and alternative medicine (CAM). The forums will be held:

March 22, 2004, 1 p.m. to 4 p.m., Natcher Conference Center, National Institutes of Health, Bethesda, Maryland 20892.

April 19, 2004, 1 p.m. to 4 p.m., The Westin Seattle, 1900 Fifth Avenue, Seattle, Washington 98101.

Forum attendees are welcome to address a listening panel composed of NCCAM senior staff and National Advisory Council members. Remarks should be limited to 3 minutes per speaker. Those wishing to address the panel should register to attend at least 5 days prior to their selected forum. NCCAM will schedule speakers until the time allotted is filled. To register, please visit http://nccam.nih.gov. Alternatively, the public is invited to submit written testimony via this Web site.

FOR FURTHER INFORMATION CONTACT: To request more information, visit the NCCAM Web site at http://nccam.nih.gov, call 1-888-644-6226, or e-mail info@nccam.gov.

Comments Due Date

Comments regarding the development of NCCAM's strategic plan are best assured of having their full effect if received by April 20, 2004.

Dated: January 29, 2004.
Christy Thomsen,
Director, Office of Communications and Public Liaison, National Center for Complementary and Alternative Medicine, National Institutes of Health.

[FR Doc. 04-2390 Filed 2-4-04; 8:45 am]

BILLING CODE 4140-01-P